DEPARTMENT OF THE INTERIOR

Bureau of Indian Affairs

[189A2100DD/AAKC001030/A0A501010.999900 253G]

Indian Trust Asset Reform Act, Title II—Indian Trust Asset Management Demonstration Project

AGENCY: Bureau of Indian Affairs, Interior.

ACTION: Notice.

SUMMARY: The Bureau of Indian Affairs (BIA) will host three Tribal consultation sessions on the development of the Indian Trust Asset Management Demonstration Project authorized by the Indian Trust Asset Management Reform Act (ITARA), Public Law 114-178.

DATES: Written comments must be received by March 15 2018. Please see the SUPPLEMENTARY INFORMATION section of this document for dates of Tribal consultation sessions.

ADDRESSES: You may submit comments by one of the following methods:

• Email: consultation@bia.gov.

• By hard copy: Submit by U.S. mail or hand delivery to: Ms. Elizabeth Appel, Office of Regulatory Affairs and Collaborative Action, U.S. Department of the Interior, 1849 C Street NW, Mail Stop 4660-MIB, Washington, DC 20240. Please note: If you provide comments by email, there is no need to provide a duplicate hard copy.

Please see the SUPPLEMENTARY INFORMATION section of this notice for information on the Tribal consultation sessions.

FOR FURTHER INFORMATION CONTACT: Mr. Doug Lords, Deputy Bureau Director, Bureau of Indian Affairs, Office of Trust Services, (505) 563-3787, or email at douglas.lords@bia.gov.

SUPPLEMENTARY INFORMATION: The ITARA became law on June 22, 2016. Title II of ITARA authorizes the Secretary of the Interior (Secretary) to establish and carry out an Indian trust asset management demonstration project (demonstration project or project). The demonstration project will allow participating Tribes to enter into, approve, and carry out surface leasing transaction or forest land management activity without approval of the Secretary if certain conditions are met.

Once the demonstration project is established, eligible Tribes may request to participate by submitting to the Secretary a complete application package. Applications must include a copy of a resolution or other appropriate action by the governing body of the Indian Tribe in support of or authorizing the application and state that the Indian Tribe is requesting to participate in the demonstration project. The Secretary will provide a written notice to each Tribe approved to participate in the project.

Tribes that have been selected to participate in the project may submit to the Secretary a proposed Indian trust asset management plan. Under section 204(a)(2) of ITARA, Indian trust asset management plans must:

(A) Identify the trust assets that will be subject to the plan;

(B) Establish trust asset management objectives and priorities for Indian trust assets that are located within the reservation, or otherwise subject to the jurisdiction, of the Indian Tribe;

(C) Allocate trust asset management funding that is available for the Indian trust assets subject to the plan in order to meet the trust asset management objectives and priorities;

(D) Identify functions or activities that are being or will be performed by the Indian Tribe under contract, compacts, or other agreements under the Indian Self-Determination and Education Assistance Act (25 U.S.C. 5301 et seq.), which may include any of the surface leasing or forest land management activities authorized by the proposed management plan and describe the practices and procedures that the Indian Tribe will follow;

(E) Establish procedures for nonbinding mediation or resolution of any dispute between the Indian Tribe and the United States relating to the trust asset management plan;

(F) Include a process for the Indian Tribe and the Federal agencies affected by the trust asset management plan to conduct evaluations to ensure that trust assets are being managed in accordance with the plan; and

(G) Identify any Federal regulations that will be superseded by the plan.

Further, in accordance with section 204(c), an Indian trust asset management plan, and any activity carried out under the plan, shall not be approved unless the proposed plan is consistent with any treaties, statutes, and executive orders that are applicable to the trust assets, or the management of the trust assets, identified in the plan.

The Secretary may approve an Indian trust asset management plan that includes a provision authorizing the Tribe to enter into, approve, and carry out a surface leasing transaction or forest management activity without approval of the Secretary, regardless of whether the surface leasing transaction or forest land management activity would require such an approval under otherwise applicable law (including regulations), under certain conditions described in section 205. Under section 204(b), the Secretary has 120 days to approve or disapprove a Tribe's proposed management plan.

A draft template of an Indian trust asset management plan is available at the following website: https://www.bia.gov/as-ia/raca/regulations-and-other-documents-in-development.

Tribal Consultation Sessions

The BIA will host two on-site Tribal consultations sessions and one telephonic consultation as follows:

Date | Time | Location
Tuesday, February 27, 2018 | 1:00 p.m.-4:00 p.m. Local Time | Mystic Lake Casino Hotel, 2400 Mystic Lake Boulevard, Prior Lake, MN 55372.
Thursday, March 1, 2018 | 1:00 p.m-4:00 p.m., Local Time | Portland, OR—please check website above for venue.
Thursday, March 8, 2018 | 1:00 p.m.-4:00 p.m. Eastern Time | Teleconference, Call-in number: (888) 324-7176, Passcode: 3730875.

Dated: January 24, 2018.
John Tahsuda,
Principal Deputy Assistant Secretary—Indian Affairs, Exercising the Authority of the Assistant Secretary—Indian Affairs.

[FR Doc. 2018-02436 Filed 2-6-18; 8:45 am]

BILLING CODE 4337-15-P